DEPARTMENT OF COMMERCE

National Oceanic and Atmospheric Administration

[RTID 0648-XC664]

Marine Mammals and Endangered Species

AGENCY: National Marine Fisheries Service (NMFS), National Oceanic and Atmospheric Administration (NOAA), Commerce.

ACTION: Notice; issuance of permits.

SUMMARY: Notice is hereby given that permits have been issued to the following entities under the Marine Mammal Protection Act (MMPA) and the Endangered Species Act (ESA), as applicable.

ADDRESSES: The permits and related documents are available for review upon written request via email to NMFS.Pr1Comments@noaa.gov.

FOR FURTHER INFORMATION CONTACT: Jennifer Skidmore (Permit Nos. 26973 and 27033), Shasta McClenahan, Ph.D., (Permit No. 24359), and Courtney Smith, Ph.D. (Permit Nos. 26170 and 26599); at (301) 427-8401.

SUPPLEMENTARY INFORMATION: Notices were published in the Federal Register on the dates listed below that requests for a permit had been submitted by the below-named applicants. To locate the Federal Register notice that announced our receipt of the application and a complete description of the activities, go to www.federalregister.gov and search on the permit number provided in Table 1 below.

Table 1—Issued Permits
Permit No. | RTID | Applicant | Previous Federal Register notice | Issuance date
24359 | 0648-XC245 | NMFS Office of Protected Resources, Marine Mammal Health and Stranding Response Program, 1315 East West Highway, Silver Spring, MD 20910 (Responsible Party: Sarah Wilkin) | 87 FR 48159, August 8, 2022 | December 20, 2022.
26170 | 0648-XC213 | Keith Ellenbogen, Blue Reef, 189 Schermerhorn Street, 8E; Brooklyn, NY 11201 | 87 FR 45764, July 29, 2022 | December 16, 2022.
26599 | 0648-XC426 | Florian Graner, Ph.D., Sea-Life Productions, 4021 Beach Drive, Freeland, WA 98249 | 87 FR 65040, November 4, 2022 | December 15, 2022.
26973 | 0648-XC507 | Field Museum, 1400 S Lake Shore Drive, Chicago, Illinois 60605 (Responsible Party: Kevin Feldheim, Ph.D.) | 87 FR 66656, October 27, 2022 | December 15, 2022.
27033 | 0648-XC519 | Underdogs Films, Ltd., 4th Floor Embassy House, Queen's Avenue, Bristol, BS8 1SB, United Kingdom (Responsible Party: Tom Stephens) | 87 FR 67451, November 8, 2022 | December 21, 2022.

In compliance with the National Environmental Policy Act of 1969 (42 U.S.C. 4321 et seq.), a final determination has been made that the activities proposed for Permit Nos. 26170, 26599, 26973, and 27033 are categorically excluded from the requirement to prepare an environmental assessment or environmental impact statement.

In compliance with the National Environmental Policy Act of 1969 (42 U.S.C. 4321 et seq.), NMFS has determined that the activities proposed for Permit No. 24359 are consistent with the Preferred Alternative in the Final Programmatic Environmental Impact Statement for the Marine Mammal Health and Stranding Response Program (MMHSRP; NMFS 2022). In a Record of Decision (ROD), signed on December 20, 2022, NMFS stated they had selected the Preferred Alternative, and the actions to be conducted under this alternative effectively meet the MMHSRP's mandates under title IV of the MMPA and PR1's permitting program, while minimizing the potential environmental impacts from the proposed actions.

As required by the ESA, as applicable, issuance of these permit was based on a finding that such permits: (1) were applied for in good faith; (2) will not operate to the disadvantage of such endangered species; and (3) are consistent with the purposes and policies set forth in Section 2 of the ESA.

Authority: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable.

Dated: January 6, 2023.
Amy Sloan,
Acting Chief, Permits and Conservation Division, Office of Protected Resources, National Marine Fisheries Service.

[FR Doc. 2023-00413 Filed 1-11-23; 8:45 am]

BILLING CODE 3510-22-P